DEPARTMENT OF THE INTERIOR

Bureau of Reclamation

Glen Canyon Dam Adaptive Management Program Work Group (AMWG)

AGENCY: Bureau of Reclamation, Interior.

ACTION: Notice of public meeting.

SUMMARY: The Glen Canyon Dam Adaptive Management Program (AMP) was implemented as a result of the Record of Decision on the Operation of Glen Canyon Dam Final Environmental Impact Statement to comply with consultation requirements of the Grand Canyon Protection Act (Pub. L. 102-575) of 1992. The AMP includes a Federal advisory committee, the Adaptive Management Work Group (AMWG), a technical work group (TWG), a Grand Canyon Monitoring and Research Center, and independent review panels. The AMWG makes recommendations to the Secretary of the Interior concerning Glen Canyon Dam operations and other management actions to protect resources downstream of Glen Canyon Dam consistent with the Grand Canyon Protection Act. The TWG is a subcommittee of the AMWG and provides technical advice and recommendations to the AMWG.

DATES: The AMWG will conduct the meeting on Wednesday and Thursday, February 9-10, 2011. The meeting will begin at 9:30 a.m. and end at 5 p.m. the first day and will begin at 8 a.m. and conclude at approximately 3 p.m. on the second day.

ADDRESSES: The meeting will be held at the Fiesta Resort Conference Center, Encantada Ballroom, 2100 S. Priest Drive, Tempe, Arizona.

FOR FURTHER INFORMATION CONTACT: Glen Knowles, Bureau of Reclamation, telephone (801) 524-3781; facsimile (801) 524-3858; e-mail at gknowles@usbr.gov.

SUPPLEMENTARY INFORMATION Agenda: The primary purpose of the meeting will be for the AMWG to discuss the High Flow Experiment Synthesis reports, status of sediment inputs, and concerns about the Fiscal Year 2011 workplan in light of reduced agency budgets. Other issues to be addressed will be: (1) Final report of Fiscal Year 2010 expenditures, (2) updates on High Flow Experimental Protocol and the Non-native Fish Control environmental assessments, (3) Colorado River Basin hydrology, (4) and the Long-Term Experimental and Management Plan. In addition, there will be updates from the Charter Ad Hoc Group and a follow up report on the work done by the Desired Future Conditions Ad Hoc Group. The AMWG will also address other administrative and resource issues pertaining to the AMP. To view a copy of the agenda and documents related to the above meeting, please visit Reclamation's Web site at http://www.usbr.gov/uc/rm/amp/amwg/mtgs/11feb09/index.html. Time will be allowed at the meeting for any individual or organization wishing to make formal oral comments. To allow for full consideration of information by the AMWG members, written notice must be provided to Glen Knowles, Bureau of Reclamation, Upper Colorado Regional Office, 125 South State Street, Room 6107, Salt Lake City, Utah 84138; telephone 801-524-3781; facsimile 801-524-3858; e-mail at gknowles@usbr.gov at least five (5) days prior to the meeting. Any written comments received will be provided to the AMWG members.

Public Disclosure of Comments

Before including your name, address, phone number, e-mail address, or other personal identifying information in your comment, you should be aware that your entire comment—including your personal identifying information—may be made publicly available at any time. While you can ask us in your comment to withhold your personal identifying information from public review, we cannot guarantee that we will be able to do so.

Dated: December 15, 2010.
Glen Knowles,
Chief, Adaptive Management Work Group, Environmental Resources Division, Upper Colorado Regional Office, Salt Lake City, Utah.

[FR Doc. 2010-33338 Filed 1-4-11; 8:45 am]

BILLING CODE 4310-MN-P